SECURITIES AND EXCHANGE COMMISSION

[Release No. 34-87091; File No. SR-NYSEArca-2019-49]

Self-Regulatory Organizations; NYSE Arca Inc.; Notice of Withdrawal of Proposed Rule Change To Amend the NYSE Arca Options Fee Schedule To Modify the Options Regulatory Fee

September 24, 2019.

On July 2, 2019, NYSE Arca, Inc. (“Exchange”) filed with the Securities and Exchange Commission (“Commission”), pursuant to Section 19(b)(1) of the Securities Exchange Act of 1934 (“Act”),¹ and Rule 19b-4 thereunder,² a proposed rule change to amend the Exchange's fee schedule to modify the amount of its Options Regulatory Fee. The proposed rule change was immediately effective upon filing with the Commission pursuant to Section 19(b)(3)(A) of the Act.³ The proposed rule change was published for comment in the Federal Register on July 22, 2019.⁴ The Commission received one comment letter, which criticized the proposal.⁵ On September August 30, 2019, pursuant to Section 19(b)(3)(C) of the Act, the Commission temporarily suspended the proposed rule change and instituted proceedings under Section 19(b)(2)(B) of the Act to determine whether to approve or disapprove the proposed rule change.⁶

¹ 15 U.S.C. 78s(b)(1).

² 17 CFR 240.19b-4.

³ 15 U.S.C. 78s(b)(3)(A).

⁴ See Securities Exchange Act Release No. 86390 (July 16, 2019), 84 FR 35169.

⁵ See Letter to Vanessa Countryman, Secretary, Commission, from Ellen Greene, Managing Director, Securities Industry and Financial Markets Association, dated August 27, 2019.

⁶ See Securities Exchange Act Release No. 86832, 84 FR 46980 (September 6, 2019).

On September 16, 2019, the Exchange withdrew the proposed rule change (SR-NYSEArca-2019-49).

For the Commission, by the Division of Trading and Markets, pursuant to delegated authority.⁷
⁷ 17 CFR 200.30-3(a)(12).
Jill M. Peterson,
Assistant Secretary.

[FR Doc. 2019-21105 Filed 9-27-19; 8:45 am]

BILLING CODE 8011-01-P